Memorandum of September 13, 2024

Delegation of Authority Under Section 7019(e) of the Department of State, Foreign Operations, and Related Programs Appropriations Act, 2024

Memorandum for the Secretary of State [and] the Administrator of the United States Agency for International Development

By the authority vested in me as President by the Constitution and the laws of the United States of America, including section 301 of title 3, United States Code, I hereby delegate to the Secretary of State, in consultation with the Administrator of the United States Agency for International Development, the functions related to a comprehensive, multi-year strategy for the promotion of democracy abroad under section 7019(e) of the Department of State, Foreign Operations, and Related Programs Appropriations Act, 2024 (Title VII of Division F of Public Law 118-47), and the accompanying Joint Explanatory Statement.

The delegation in this memorandum shall apply to any provision of any future public law that is the same or substantially the same as the provision referenced in this memorandum.

The Secretary of State is authorized and directed to publish this memorandum in the Federal Register.

THE WHITE HOUSE,

Washington, September 13, 2024

[FR Doc. 2024-21945

Filed 9-23-24; 8:45 am]

Billing code 4710-10-P